DEPARTMENT OF TRANSPORTATION

Pipeline and Hazardous Materials Safety Administration

Office of Hazardous Materials Safety; Notice of Delays in Processing of Special Permits Applications

AGENCY: Pipeline and Hazardous Materials Safety Administration (PHMSA), DOT.

ACTION: List of applications delayed more than 180 days.

SUMMARY: In accordance with the requirements of 49 U.S.C. 5117( c), PHMSA is publishing the following list of special permit applications that have been in process for 180 days or more. The reason(s) for delay and the expected completion date for action on each application is provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

PM—Party to application with modification request.

Issued in Washington, DC, on February 27, 2008.
Delmer F. Billings,
Director, Office of Hazardous Materials, Special Permits and Approvals.

Application No. | Applicant | Reason for delay of completion | Estimated date
Modification to Special Permits
11579-M | Austin Powder Company, Cleveland, OR | 3, 4 | 03-31-2008
10964-M | Kidde Aerospace & Defense, Wilson, NC | 4 | 03-31-2008
13173-M | Dynetek Industries Ltd., Calgary Alberta, Canada | 1 | 03-31-2008
New Special Permit Applications
14385-N | Kansas City Southern Railway Company, Kansas City, MO | 4 | 03-31-2008
14566-N | Nantong CIMCTank Equipment Co. Ltd., Nantong City | 3 | 03-31-2008
14576-N | Structural Composites Industries(SCI), Pomona, CA | 1 | 03-31-2008
14572-N | WEW Westerwaelder Eisenwerk, Weitefeld Germany | 3 | 03-31-2008
14549-N | Greif, Inc., Delaware, OR | 3,4 | 03-31-2008
14402-N | Lincoln Composites, Lincoln, NE | 3,4 | 03-31-2008

[FR Doc. E8-4111 Filed 3-3-08; 8:45 am]

BILLING CODE 4910-60-P